DEPARTMENT OF ENERGY

Federal Energy Regulatory Commission

Combined Notice of Filings #1

September 15, 2009.

Take notice that the Commission received the following electric rate filings:

Docket Numbers: ER98-1643-014.

Applicants: Portland General Electric Company.

Description: Application of Portland General Electric Company—Notice of Change in Status Eratta Appendix B.

Filed Date: 09/14/2009.

Accession Number: 20090914-5203.

Comment Date: 5 p.m. Eastern Time on Monday, October 5, 2009.

Docket Numbers: ER01-1822-006.

Applicants: Indigo Generation LLC, Larkspur Energy LLC, Wildflower Energy LP.

Description: Indigo Generation, LLC et al. submits supplement to the August 12 Notice containing a request for waiver of the requirement that the Wildflower Entities file the 2007 Triennial Update et al.

Filed Date: 09/11/2009.

Accession Number: 20090915-0025.

Comment Date: 5 p.m. Eastern Time on Friday, October 2, 2009.

Docket Numbers: ER00-1372-005; ER07-496-002.

Applicants: Alcoa Power Generating Inc., Alcoa Power Marketing LLC.

Description: Alcoa Power Marketing LLC and Alcoa Power Generating Inc. submit Updated Market Power Analysis for Continued Market-Based Rate Authority in Compliance with Order No. 697.

Filed Date: 09/14/2009.

Accession Number: 20090914-5200.

Comment Date: 5 p.m. Eastern Time on Monday, October 5, 2009.

Docket Numbers: ER09-1473-001.

Applicants: NorthWestern Corporation.

Description: NorthWestern Corporation submits supplement to the executed Large Generator Interconnection Agreement between NorthWestern and NaturEner Glacier Wind Energy 2, LLC.

Filed Date: 09/11/2009.

Accession Number: 20090914-0074.

Comment Date: 5 p.m. Eastern Time on Friday, October 2, 2009.

Docket Numbers: ER09-1574-001.

Applicants: MidAmerican Energy Company.

Description: MidAmerican Energy Company submits Substitute First Revised Rate Schedule No 42 et al.

Filed Date: 09/14/2009.

Accession Number: 20090914-0077.

Comment Date: 5 p.m. Eastern Time on Monday, October 5, 2009.

Docket Numbers: ER09-1697-000.

Applicants: Ameren Services Company.

Description: Ameren Services Company submits revised executed service agreement for Wholesale Distribution Service with the Hannibal Board of Public Works.

Filed Date: 09/11/2009.

Accession Number: 20090914-0075.

Comment Date: 5 p.m. Eastern Time on Friday, October 2, 2009.

Docket Numbers: ER09-1698-000.

Applicants: Prime Power Sales I, LLC.

Description: Prime Power Sales I, LLC submits notice of cancellation of its FERC Electric Tariff, Original Rate Schedule FERC No 1.

Filed Date: 09/11/2009.

Accession Number: 20090914-0076.

Comment Date: 5 p.m. Eastern Time on Friday, October 2, 2009.

Docket Numbers: ER09-1700-000; ER09-1701-000; ER09-1702-000; ER09-1703-000; ER09-1704-000; ER09-1705-000.

Applicants: Deseret Generation & Transmission Co-op.; Idaho Power Company; NorthWestern Corporation; PacifiCorp; Portland General Electric Company; Black Hills Power, Inc.

Description: Deseret Generation & Transmission Co-operative, Inc et al. submits a revised Attachment K to simplify the process of stakeholders to join the Northern Tier Transmission Group Planning Committee.

Filed Date: 09/14/2009.

Accession Number: 20090915-0059.

Comment Date: 5 p.m. Eastern Time on Monday, October 5, 2009.

Take notice that the Commission received the following open access transmission tariff filings:

Docket Numbers: OA08-25-003.

Applicants: Avista Corporation.

Description: Attachment K Compliance Filing of Avista Corporation.

Filed Date: 09/14/2009.

Accession Number: 20090914-5198.

Comment Date: 5 p.m. Eastern Time on Monday, October 5, 2009.

Docket Numbers: OA08-26-003.

Applicants: Puget Sound Energy, Inc.

Description: Attachment K Compliance Filing of Puget Sound Energy, Inc.

Filed Date: 09/14/2009.

Accession Number: 20090914-5199.

Comment Date: 5 p.m. Eastern Time on Monday, October 5, 2009.

Docket Numbers: OA08-33-002.

Applicants: Arizona Public Service Company.

Description: Compliance Filing of Arizona Public Service Company.

Filed Date: 09/14/2009.

Accession Number: 20090914-5201.

Comment Date: 5 p.m. Eastern Time on Monday, October 5, 2009.

Take notice that the Commission received the following electric reliability filings:

Docket Numbers: RR09-9-000; RR08-6-004; RR07-14-004.

Applicants: North American Electric Reliability Corp.

Description: North American Electric Reliability Corporation (Attachment 15) in Support of its Request for Acceptance of its 2010 Business Plan and Budget and the 2010 Business Plans and Budgets of Regional Entities.

Filed Date: 09/14/2009.

Accession Number: 20090914-5166.

Comment Date: 5 p.m. Eastern Time on Monday, September 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-22721 Filed 9-21-09; 8:45 am]

BILLING CODE 6717-01-P